NUCLEAR REGULATORY COMMISSION

10 CFR Parts 170 and 171

[NRC-2013-0276]

RIN 3150-AJ32

Revision of Fee Schedules; Fee Recovery for Fiscal Year 2014; Correction

AGENCY: Nuclear Regulatory Commission.

ACTION: Final rule; correction.

SUMMARY: The U.S. Nuclear Regulatory Commission (NRC) is correcting a final rule that appeared in the Federal Register of June 30, 2014, that amends the licensing, inspection, and annual fees charged to the NRC's applicants and licensees. The final rule inadvertently included the NRC's Agencywide Documents Access and Management System (ADAMS) accession number for the fiscal year (FY) 2014 proposed fee rule work papers. This document corrects the final rule to provide the ADAMS accession number for the FY 2014 final fee rule work papers.

DATES: This correction is effective on August 29, 2014.

FOR FURTHER INFORMATION CONTACT: Arlette Howard, Office of the Chief Financial Officer, U.S. Nuclear Regulatory Commission, Washington, DC 20555-0001, telephone: 301-415-1481, email: Arlette.Howard@nrc.gov.

SUPPLEMENTARY INFORMATION: In FR Doc. 2014-15193 appearing on page 37123 in the Federal Register of Monday, June 30, 2014, the following corrections are made:

1. On page 37128, in the first column, in the second paragraph under the heading “Revised Annual Fees,” the number “ML14064A394” is corrected to read “ML14148A062.”

2. On page 37144, in the third column, in the table under the heading “XV. Availability of Documents,” the number “ML14064A394” is corrected to read “ML14148A062.”

Dated at Rockville, Maryland, this 16th day of July, 2014.
For the Nuclear Regulatory Commission.
Cindy Bladey,
Chief, Rules, Announcements, and Directives Branch, Division of Administrative Services, Office of Administration.

[FR Doc. 2014-17140 Filed 7-21-14; 8:45 am]

BILLING CODE 7590-01-P